NATIONAL AERONAUTICS AND SPACE ADMINISTRATION

[Notice (00-106)]

NASA Advisory Council, Aero-Space Technology Advisory Committee, Rotorcraft Subcommittee; Meeting

AGENCY: National Aeronautics and Space Administration.

ACTION: Notice of meeting.

SUMMARY: In accordance with the Federal Advisory Committee Act, Public Law 92-463, as amended, the National Aeronautics and Space Administration announces a meeting of the Rotorcraft Subcommittee of the NASA Advisory Council Aerospace Technology Advisory Committee.

DATES: Thursday, October 19, 2000, 8 a.m. to 5 p.m.; Friday, October 20, 2000, 8 a.m. to 2 p.m.

ADDRESSES: National Aeronautics and Space Administration, Ames Research Center, Building 200, Committee Room, Moffett Field, CA 94035.

FOR FURTHER INFORMATION CONTACT: Ms. Sue Zabor, National Aeronautics and Space Administration, Ames Research Center, Moffett Field, CA 94035, 650/604-2890.

SUPPLEMENTARY INFORMATION: The meeting will be open to the public up to the seating capacity of the room. Agenda topics for the meeting are as follows:

—Status, Technical Accomplishments and Plans for the NASA Rotorcraft Research and Technology Base Program

—Assessment of Rotorcraft Base Program Aerospace Technology Enterprise Milestones and Milestones Subject to Government Performance and Results Act

—Strategic Vision for the Rotorcraft Community

It is imperative that the meeting be held on these dates to accommodate the scheduling priorities of the key participants. Visitors will be requested to sign a visitors register.

Dated: September 6, 2000.
Beth M. McCormick,
Advisory Committee Management Officer, National Aeronautics and Space Administration.

[FR Doc. 00-23230 Filed 9-8-00; 8:45 am]

BILLING CODE 7510-01-P